DEPARTMENT OF HEALTH AND HUMAN SERVICES

Substance Abuse and Mental Health Services Administration

Fiscal Year (FY) 2011 Funding Opportunity

AGENCY: Substance Abuse and Mental Health Services Administration, HHS.

ACTION: Notice of intent to award a Single Source supplement to the National Center for Child Traumatic Stress.

SUMMARY: This notice is to inform the public that the Substance Abuse and Mental Health Services Administration (SAMHSA) intends to award approximately $1,000,000 (total costs) for up to one year to the National Center for Child Traumatic Stress.

This is not a formal request for applications. Supplement will be provided only to National Center for Child Traumatic Stress based on the receipt of a satisfactory application that is approved by an independent review group.

Funding Opportunity Title: SM-11-010.

Catalog of Federal Domestic Assistance (CFDA) Number: 93.243.

Authority: Section 582 of the Public Health Service Act, as amended.

Justification: Only an application from National Center for Child Traumatic Stress will be considered for funding under this announcement. The National Center for Child Traumatic Stress is the sole entity providing coordination, expertise, training and technical assistance to the National Child Traumatic Stress Network (NCTSN). It is through this Network that the National Center will work to further develop, train, and evaluate screening, assessment and intervention activities and programs that are adapted to fit child welfare and juvenile justice system operation.

The purpose of this 1-year supplement is to promote and facilitate the development of trauma-informed child welfare and juvenile justice service systems. This work will be done in partnership with child welfare and juvenile justice agencies to improve the response of these agencies for children and adolescents in their systems that have experienced significant traumas.

The NCCTS will support Network efforts to further develop, train, and evaluate screening, assessment and intervention activities and programs that are adapted to fit child welfare and juvenile justice system operations. Activities supported by this supplement will build on prior Network activities with grantees who are already engaged in developing trauma-informed awareness and practices in the child welfare and juvenile justice systems.

FOR FURTHER INFORMATION CONTACT: Shelly Hara, Substance Abuse and Mental Health Services Administration, 1 Choke Cherry Road, Room 8-1095, Rockville, MD 20857; telephone: (240) 276-2321; E-mail: shelly.hara@samhsa.hhs.gov.

Janine D. Cook,
SAMHSA.

[FR Doc. 2011-18671 Filed 7-22-11; 8:45 am]

BILLING CODE 4162-20-P